ENVIRONMENTAL PROTECTION AGENCY

[OPPTS-00291; FRL-6552-4]

National Advisory Committee for Acute Exposure Guideline Levels for Hazardous Substances; Notice of Public Meeting

AGENCY: Environmental Protection Agency (EPA).

ACTION: Notice.

SUMMARY: A meeting of the National Advisory Committee for Acute Exposure Guideline Levels for Hazardous Substances (NAC/AEGL Committee) will be held on April 26-28, 2000, in Piscataway, NJ. The NAC/AEGL Committee has now instituted the development of AEGLs for 10-minute exposure periods for all chemicals scheduled for AEGL development. This 10-minute exposure period will be in addition to the current exposure periods of 30-minutes, 1 hour, 4 hours, and 8 hours. The new 10-minute numbers will be developed for all chemicals previously addressed by the NAC/AEGL Committee, as well as all future chemicals to come before the NAC/AEGL Committee. At this meeting, the NAC/AEGL Committee will address, as time permits, the various aspects of the acute toxicity and the development of AEGLs for all exposure periods for the following chemicals: Agent HD (sulfur mustard); bromine; cis- and trans-1,2-dichloroethylene; HCFC-141b; HFC-134a; hydrogen cyanide; hydrogen fluoride; hydrogen sulfide; Otto fuel II, uranium hexafluoride; phosphine; 1,1,1-trichloroethane. There will also be a discussion of and the development of 10-minute AEGL values as time permits for the following chemicals for which the other exposure periods have already been developed at the proposed level: Allyl amine; carbon tetrachloride; chlorine trifluoride; crotonaldehyde; cyclohexylamine; dimethyldichlorosilane; epichlorohydrin; ethylenediamine; ethylene oxide; ethyleneimine; hydrogen chloride; iron pentacarbonyl; methyl isocyanate; methyl mercaptan; methyltrichlorosilane; nickel carbonyl; nitric acid; peracetic acid; phosgene; phosphorus oxychloride; phosphorus trichloride; piperidine; propyleneimine; toluene; and toluene diisocyanate.

DATES: A meeting of the NAC/AEGL Committee will be held from 10 a.m. to 5 p.m. on April 26, 2000; from 8:30 a.m. to 5:30 p.m. on April 27, 2000; and from 8:30 a.m. to 12:30 p.m. on April 28, 2000.

ADDRESSES: The meeting will be held at the Environmental and Occupational Health Sciences Institute (EOHSI), 170 Frelinghuysen Rd., Piscataway, NJ. See Unit II. for visitor registration procedures, parking information, and travel directions.

FOR FURTHER INFORMATION CONTACT: For general information contact: Barbara Cunningham, Director, Office of Program Management and Evaluation, Office of Pollution Prevention and Toxics (7401), Ariel Rios Bldg., 1200 Pennsylvania Ave., NW., Washington, DC 20460; telephone number: (202) 554-1404; e-mail address: TSCA-Hotline@epa.gov

For technical information contact: Paul S. Tobin, Designated Federal Officer (DFO), Office of Prevention, Pesticides and Toxic Substances (7406), Ariel Rios Bldg., 1200 Pennsylvania Ave., NW., Washington, DC 20460; telephone number: (202) 260-1736; e-mail address: tobin.paul@epa.gov.

SUPPLEMENTARY INFORMATION:

I. General Information

A. Does this Action Apply to Me?

This action is directed to the public in general. This action may be of particular interest to anyone who may be affected if the AEGL values are adopted by government agencies for emergency planning, prevention, or response programs, such as EPA's Risk Management Program under the Clean Air Act and Amendments Section 112r. It is possible that other Federal agencies besides EPA, as well as State agencies and private organizations, may adopt the AEGL values for their programs. As such, the Agency has not attempted to describe all the specific entities that may be affected by this action. If you have any questions regarding the applicability of this action to a particular entity, consult the DFO listed under “FOR FURTHER INFORMATION CONTACT.”

B. How Can I Get Additional Information, Including Copies of this Document or Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number OPPTS-00291. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

II. Meeting Procedures

A. Presentations

For additional information on the scheduled meeting, the agenda of the NAC/AEGL Committee, or the submission of information on chemicals to be discussed at the meeting, contact the DFO listed under “FOR FURTHER INFORMATION CONTACT.”

The meeting of the NAC/AEGL Committee will be open to the public. Oral presentations or statements by interested parties will be limited to 10 minutes. Interested parties are encouraged to contact the DFO to schedule presentations before the NAC/AEGL Committee. Since seating for outside observers may be limited, those wishing to attend the meeting as observers are also encouraged to contact the DFO at the earliest possible date to ensure adequate seating arrangements. Inquiries regarding oral presentations and the submission of written statements or chemical-specific information should be directed to the DFO.

B. Parking and Travel Directions

1. Parking. Visitors should contact the DFO to have their names added to the entry list. Visitors arriving by automobile must park in the designated parking spots for the meeting in Parking Lot #54. Parking Lot #54 is between Titsworth and Taylor Rds.

2. Travel directions. (Approximate mileage to EOHSI from): Exit #9, Route #287 (2.5 miles); Exit #9, New Jersey (NJ) Turnpike (6 miles); New York City (40 miles); New Brunswick Train Station (3.5 mile); Newark Airport (27 miles).

a. From Route #287—i. Traveling south. Exit at sign for “River Rd./Bound Brook/Highland Park” (Exit 9). Turn right off the exit ramp onto River Rd. (Route #18 South). At the fourth traffic light (approximately 2.5 miles from Route #287) turn left onto Hoes Lane. Continue down Hoes Lane to the “Y” in the road and the golf course will be on your right-hand side.

At the “Y” in the road bear right onto Frelinghuysen Rd. and EOHSI will be a short distance down the road on your left. You will need to pass EOHSI and continue to Allison Rd. Make a left onto Allison Rd., at the STOP sign make a right onto Bevier Rd. and continue to Taylor Rd. (one block) and make a left. Parking Lot #54 is on the left. There will be a security guard present; mention the meeting and you will be allowed to park. You then must walk back to EOHSI the way you drove. Once at EOHSI follow the posted signs to Conference Room C.

ii. Traveling north. Exit at the sign for “Bound Brook—Highland Park” (Exit #9). Turn left off the exit ramp onto River Rd. (514 Spur). At the fourth traffic light (approximately 2.8 miles from Route #287) turn left onto Hoes Lane. Continue from “Y” in the road by following the directions in Unit II.B.2.a.i.

b. From the NJ Turnpike. Take Exit #9—New Brunswick. Take Route #18 North—New Brunswick. Approximately 4 miles from the NJ Turnpike Route #18 will cross the Raritan River. Keep to the left of the bridge. Turn left at the traffic light at the end of the bridge onto River Rd. (Route #18 North). At the second traffic light turn right onto Hoes Lane. Continue from “Y” in the road by following the directions in Unit II.B.2.a.i.

c. From Route #1 traveling south. As you near the New Brunswick area, follow signs for Route #18 North—New Brunswick, bearing right at the Exxon Station. Continue from Route #18 North by following the directions in Unit II.B.2.b.

d. From Garden State Parkway traveling south. Take Exit #130 to Route #1 South. Continue from Route #1 South by following the directions in Unit II.B.2.c.

e. From New Brunswick Railroad Station. New Jersey (NJ) Transit trains make regular stops in New Brunswick. If you are traveling from Washington, DC or Baltimore, MD, you will have to change from AMTRAK to NJ Transit at either Philadelphia, PA or Trenton, NJ. Taxis are located outside the train station.

f. From airports—i. Newark International Airport is approximately 35 miles from EOHSI. Taxis are located outside the baggage claim area. Dispatchers will give you the fare to Piscataway, NJ before you enter the cab.

ii. La Guardia Airport is 50 miles from Piscataway, NJ. EOHSI is located at 170 Frelinghuysen Rd. on the Busch Campus of Rutgers University.

iii. JFK Airport is 54 miles from Piscataway, NJ. EOHSI is located at 170 Frelinghuysen Rd. on the Busch Campus of Rutgers University.

III. Future Meetings

A future meeting of the NAC/AEGL Committee is tentatively scheduled for summer 2000. The final date and location of this meeting and the chemicals to be discussed will be published in a future Federal Register notice.

List of Subjects

Environmental protection, Chemicals, Hazardous substances, Health and safety.

Dated: March 30, 2000.
William H. Sanders III,
Director, Office of Pollution Prevention and Toxics.

[FR Doc. 00-8542 Filed 4-5-00; 8:45 am]

BILLING CODE 6560-50-F